DEPARTMENT OF THE DEFENSE

Department of the Army; Corps of Engineers

Notice of Intent To Prepare a Draft Supplemental Environmental Impact Statement (DSEIS) for Proposed Changes to the Kentucky Lock Addition Project, Marshall and Livingston Counties, Kentucky

AGENCY: U. S. Army Corps of Engineers, DoD.

ACTION: Notice of Intent and Announcement of Meeting

SUMMARY: The Corps of Engineers, Nashville District, and the Tennessee Valley Authority (Cooperating Agency) will prepare a DSEIS to the 1992 EIS titled Lower Cumberland and Tennessee Rivers Navigation Feasibility Report Kentucky Lock Addition, Volume 1 Final EIS. This supplement is necessary to provide National Environmental Policy Act (NEPA) coverage for proposed changes to the design of the project from that described in previous NEPA documents, which includes the 1992 EIS and the March 2000 Environmental Assessment for the Proposed Relocation of the U.S. Highway 62 and 641 Crossing of the Tennessee River at Kentucky Lock and Dam. A Public Meeting is scheduled to scope for potential issues to be evaluated in the SEIS. Further information on the upcoming meeting is provided in the SUPPLEMENTARY INFORMATION paragraph indicated below.

DATES: Written comments must be received by the Corps of Engineers on or before June 12, 2000.

ADDRESSES: Written comments on issues to be considered in the SEIS shall be mailed to: Tim Higgs, Project Planning Branch, Nashville District Corps of Engineers, P.O. Box 1070 (PM-P), Nashville, Tennessee 37202-1070.

FOR FURTHER INFORMATION CONTACT: For additional information concerning the notice and meeting announcement, please contact Tim Higgs, Environmental Analysis Team, (615) 736-7192 or Don Getty, Project Manager, (615) 736-2346.

SUPPLEMENTARY INFORMATION: 1. The intent of the Supplemental EIS is to provide National Environmental Policy Act coverage for design features of the Kentucky Lock Addition project that were unspecified when the original EIS was prepared. At the time of the original EIS, it was recognized that decisions on several key features could not be made until additional hydraulic modeling studies and engineering evaluations were performed. This additional evaluation has progressed to the point that the SEIS can be completed.

2. The original EIS for Kentucky Lock Addition was completed in 1992 and a Record of Decision signed in 1998. An environmental assessment (EA) was completed in March 2000 for the relocation of the U.S. Highway 62/641 Crossing over the Tennessee River. This EA addressed changes to the project from moving the crossing off the Kentucky Lock and Dam (river mile 22.4) to a site just downstream of the dam (river mile 22.1). The SEIS now proposed will cover all known remaining changes to the project from that described in the earlier EIS and EA.

3. Key proposed project features to be evaluated in the SEIS include the following:

a. Training dike(s) on the west bank of the Powerhouse Island to improve navigation conditions for barge traffic entering the locks on the downstream side.

b. Fishing enhancement features added as mitigation for construction impacts (bank closures):

(1) three west bank rock jetties below the west bank boat basin;

(2) expanded west bank boat basin which will be used by contractors during construction and available to the public after construction;

(3) new boat ramp in the west bank boat basin;

(4) fishing piers on the west bank and off the Powerhouse Island.

c. Construction of a new Lock Visitor's Center as mitigation for loss of Taylor Park Campground.

d. Fill placement in lower level of now inactive Taylor Park Campground.

e. Mooring buoys at either Tennessee River Mile 19.4 (Left Bank) or TRM 20.6L.

f. Underwater rock excavations in upstream and downstream lock approaches.

g. Wastewater treatment systems for the Lock and Dam facilities.

h. Widening of Highway 282 at the railroad underpass on the west bank.

i. Guidewall construction in the tailwater.

4. This notice serves to solicit comments from the public; federal, state and local agencies and officials; Indian Tribes; and other interested parties in order to consider and evaluate the impacts of this proposed activity. Any comments received by us will be considered to determine whether to perform this work. To make this decision, comments are used to assess impacts on endangered species, historic properties, water quality, water supply and conservation, economics, aesthetics, wetlands, flood hazards, floodplain values, land use, navigation, shore erosion and accretion, recreation, energy needs, safety, food and fiber production, mineral needs, considerations of property ownership, general environmental effects, and in general, the needs and welfare of the people.

5. Activities proposed that require a review under the guidelines promulgated by the Administrator, Environmental Protection Agency (EPA), under authority of Section 404(b)(1) of the Clean Water Act (40 CFR Part 230) include fill placement for fishing enhancement features and riprap temporarily placed in the lower lock approach channel.

6. Other federal, state and local approvals required for the proposed work are as follows:

a. Water quality certification from the Kentucky Division of Water.

b. Coordination with the U.S. Fish and Wildlife Service, including a Biological Assessment/Opinion for Endangered Species Act and a Fish and Wildlife Coordination Act Report.

7. Significant issues to be analyzed in depth in the draft SEIS include impacts to tailwater mussel resources, tailwater fishing activities, and commercial and recreational boating activities. The Tennessee Valley Authority has agreed to be a Cooperating Agency on the SEIS and will be responsible for preparing much of the evaluations of significant resources. A draft SEIS should be available in February 2001.

8. Public Meeting: A public meeting is scheduled to scope for potential issues to be evaluated in the SEIS as follows:

Date: May 22, 2000.

Time: 6:30 p.m. to 9 p.m.

Place: Kentucky Dam Village State Park Convention Center, U.S. Highway 641, Gilbertsville, Kentucky.

Peter F. Taylor, Jr.,
Lieutenant Colonel, Corps of Engineers, District Engineer.

[FR Doc. 00-12034 Filed 5-11-00; 8:45 am]

BILLING CODE 3710-GF-P